DEPARTMENT OF HOMELAND SECURITY

Coast Guard

[USCG-2010-0711]

Information Collection Request to Office of Management and Budget; OMB Control Numbers: 1625-0080

AGENCY: Coast Guard, DHS.

ACTION: Sixty-day notice requesting comments.

SUMMARY: In compliance with the Paperwork Reduction Act of 1995, the U.S. Coast Guard intends to submit an Information Collection Request (ICR) and Analysis to the Office of Management and Budget (OMB) requesting an extension of its approval for the following collection of information: 1625-0080, Customer Satisfaction Surveys. Before submitting this ICR to OMB, the Coast Guard is inviting comments as described below.

DATES: Comments must reach the Coast Guard on or before November 22, 2010.

ADDRESSES: To avoid duplicate submissions to the docket [USCG-2010-0711], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand Deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

A copy of the ICR is available through the docket on the Internet at http://www.regulations.gov. Additionally, a copy is available from: Commandant (CG-611), Attn Paperwork Reduction Act Manager, US Coast Guard, 2100 2nd St., SW., Stop 7101, Washington, DC 20593-7101.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether this ICR should be granted based on the collection being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

We encourage you to respond to this request by submitting comments and related materials. We will post all comments received, without change, to http://www.regulations.gov. They will include any personal information you provide. We have an agreement with DOT to use their DMF. Please see the “Privacy Act” paragraph below.

Submitting comments: If you submit a comment, please include the docket number [USCG-2010-0711], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period and will address them accordingly.

Viewing comments and documents: Go to http://www.regulations.gov to view documents mentioned in this Notice as being available in the docket. Enter the docket number for this Notice [USCG-2010-0711] in the Search box, and click “Go >>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Information Collection Request

Title: Customer Satisfaction Surveys.

OMB Control Number: 1625-0080.

Summary: Executive Order 12862 authorizes the Coast Guard to survey customers to determine the kind and quality of services they want, and their level of satisfaction with existing services.

Need: Putting people first means ensuring that the Federal Government provides the highest-quality of service possible to the American people. Executive Order 12862 requires all executive departments/agencies providing significant services directly to the public, seek to meet established standards of customer service.

Forms: None.

Respondents: Recreational boaters, commercial mariners, industry groups, and State and local governments.

Frequency: On occasion.

Burden Estimate: The estimated burden has decreased from 15,516 hours to 1,316 hours a year.

Dated: September 15, 2010.
R.E. Day,
Rear Admiral, U.S. Coast Guard, Assistant Commandant for Command, Control, Communications, Computers and Information Technology.

[FR Doc. 2010-23611 Filed 9-21-10; 8:45 am]

BILLING CODE 9110-04-P